DEPARTMENT OF COMMERCE

International Trade Administration

Ohio University, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Avenue NW., Washington, DC.

Docket Number: 12-038. Applicant: Ohio University, 166 Stocker Center, Athens, OH 45701. Instrument: Electron Microscope. Manufacturer: JEOL Ltd., Japan. Intended Use: See notice at 77 FR 65863, October 31, 2012.

Docket Number: 12-040. Applicant: University of North Carolina Wilmington, 601 South College Road, Wilmington, NC 28403-5915. Instrument: Electron Microscope. Manufacturer: FEI Company, Czech Republic. Intended Use: See notice at 77 FR 65863, October 31, 2012.

Docket Number: 12-041. Applicant: Institute for Imaging & Analytical Technologies, Mississippi State University, Clay Lyle Entomology Building, Mississippi State, MS 39762. Instrument: Electron Microscope. Manufacturer: JEOL Ltd., Japan. Intended Use: See notice at 77 FR 65863, October 31, 2012.

Docket Number: 12-042. Applicant: Kansas State University, College of Veterinary Medicine, K206 Moiser Hall, Manhattan, KS 66505. Instrument: Electron Microscope. Manufacturer: FEI, Czech Republic. Intended Use: See notice at 77 FR 65863, October 31, 2012.

Docket Number: 12-043. Applicant: Cleveland Clinic Foundation, 2111 East 96th Street, Cleveland, OH 44106. Instrument: Electron Microscope. Manufacturer: FEI, Czech Republic. Intended Use: See notice at 77 FR 65863, October 31, 2012.

Docket Number: 12-044. Applicant: University of Colorado, 347 University of Colorado Boulder, Boulder, CO 80309. Instrument: Electron Microscope. Manufacturer: FEI, Czech Republic. Intended Use: See notice at 77 FR 65863-64, October 31, 2012.

Docket Number: 12-045. Applicant: Walter Reed Army Institute of Research, 2460 Linden Lane, Building #503, Silver Spring, MD 20910. Instrument: Electron Microscope. Manufacturer: JEOL Ltd., Japan. Intended Use: See notice at 77 FR 65863-64, October 31, 2012.

Docket Number: 12-046. Applicant: Battelle Memorial Institute, 790 6th Street, Richland, WA 99354. Instrument: Electron Microscope. Manufacturer: FEI, Czech Republic. Intended Use: See notice at 77 FR 65863-64, October 31, 2012.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: November 27, 2012.
Gregory W. Campbell,
Director, Subsidies Enforcement Office, Import Administration.

[FR Doc. 2012-29288 Filed 12-3-12; 8:45 am]

BILLING CODE 3510-DS-P